FEDERAL COMMUNICATIONS COMMISSION

Open Commission Meeting, Friday, March 15, 2019

March 8, 2019.

The Federal Communications Commission will hold an Open Meeting on the subjects listed below on Friday, March 15, 2019 which is scheduled to commence at 10:30 a.m. in Room TW-C305, at 445 12th Street SW, Washington, DC.

Item No. | Bureau | Subject
1 | Office of Engineering and Technology | Title: Spectrum Horizons (ET Docket No. 18-21); James Edwin Whedbee Petition for Rulemaking to Allow Unlicensed Operation in the 95-1,000 GHz (RM-11795).
|  | Summary: The Commission will consider a First Report and Order that would adopt rules to make available 21.2 GHz of spectrum above 95 GHz for unlicensed operations and create a new class of experimental licenses for the 95 GHz to 3 THz spectrum range.
2 | Wireless Tele-Communications | Title: Review of the Commission's Rules Governing the 896-901/935-940 MHz Band (WT Docket No. 17-200).
|  | Summary: The Commission will consider a Notice of Proposed Rulemaking that would propose to reconfigure the 900 MHz band to create a broadband segment to facilitate technologies and services for a wide variety of businesses, including critical infrastructure, as well as seek comment on various transition mechanisms to achieve this goal.
3 | Public Safety & Homeland Security | Title: Wireless E911 Location Accuracy Requirements (PS Docket No. 07-114). Summary: The Commission will consider a Fourth Further Notice of Propose Rulemaking that proposes a vertical, or z-axis, location accuracy metric in connection with wireless E911 calls.
4 | Media | Title: LPTV, TV Translator, and FM Broadcast Station Reimbursement (MB Docket No. 18-214): Expanding the Economic and Innovation Opportunities of Spectrum Through Incentive Auctions (GN Docket No. 12-268).
|  | Summary: The Commission will consider a Report and Order that implements Congress's directive in the Reimbursement Expansion Act that the Commission reimburse certain low power television, television translator, and FM broadcast stations for costs incurred as a result of the Commission's broadcast television spectrum incentive auction.
5 | Media | Title: Streamlined Reauthorization Procedures for Assigned or Transferred Television Satellite Stations (MB Docket No. 18-63); Modernization of Media Regulation Initiative (MB Docket No. 17-105).
|  | Summary: The Commission will consider a Report and Order that streamlines the reauthorization process for television satellite stations when they are assigned or transferred.
6 | Wireless Tele-Communications | Title: Partitioning, Disaggregation, and Leasing of Spectrum (WT Docket No. 19-38). Summary: The Commission will consider a Notice of Proposed Rulemaking that would explore how potential changes to our partitioning, disaggregation, and leasing rules might better close the digital divide and increase spectrum access by small and rural carriers, fulfilling the Commission's requirement under the MOBILE NOW Act.
7 | Wireline Competition | Title: Rural Call Completion (WC Docket No. 13-39). Summary: The Commission will consider a Fourth Report and Order to implement the Improving Rural Call Quality and Reliability Act of 2017 by establishing service quality standards for intermediate providers.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

For a fee this meeting can be viewed live over George Mason University's Capitol Connection. The Capitol Connection also will carry the meeting live via the internet. To purchase these services, call (703) 993-3100 or go to www.capitolconnection.gmu.edu.

Federal Communications Commission.
Katura Jackson,
Federal Register Liaison Officer, Office of the Secretary.

[FR Doc. 2019-04727 Filed 3-13-19; 8:45 am]

BILLING CODE 6712-01-P